DEPARTMENT OF THE INTERIOR

Fish and Wildlife Service

[FW-R1-FHC-2014-N189; FRFR48370811630-XXX-FF08FSTF00]

Proposed Information Collection; Fish Monitoring Survey—Central Valley, CA

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by November 10, 2014.

ADDRESSES: Send your comments on the IC to the Service Information Collection Clearance Officer, U.S. Fish and Wildlife Service, MS BPHC, 5275 Leesburg Pike, Falls Church, VA 22041-3803 (mail); or hope_grey@fws.gov (email). Please include “1018—Fish Monitoring Survey” in the subject line of your comments.

FOR FURTHER INFORMATION CONTACT: To request additional information about this IC, contact Hope Grey at hope_grey@fws.gov (email) or 703-358-2482 (telephone).

SUPPLEMENTARY INFORMATION:

I. Abstract

We will conduct the survey using an online questionnaire. The objectives of the survey are to:

• Obtain expert opinions on the prioritization of fish monitoring and research within the San Francisco Estuary and its watershed;

• Explain the levels of scientific understanding or uncertainty associated with the ecology and viability of high-priority fish taxa; and

• Identify the environmental drivers that influence fish populations.

We will use the information to inform structured decision making models developed by the Stockton Fish and Wildlife Office's Delta Juvenile Fish Monitoring Program in Lodi, California. The structured decision making models will be used to adaptively evaluate the management utility of existing and alternative monitoring objectives and associated fish sampling elements within the San Francisco Estuary and its watershed.

II. Data

OMB Control Number: 1018—New.

Title: Fish Monitoring Questionnaire—Central Valley, CA.

Service Form Number: None.

Type of Request: Request for a new OMB control number.

Description of Respondents: Representatives of six Federal agencies (U.S. Bureau of Reclamation, U.S. Geological Survey, U.S. Fish and Wildlife Service, National Marine Fisheries Service, U.S. Army Corps of Engineers, and U.S. Environmental Protection Agency), four State of California agencies (California Department of Water Resources, California Department of Fish and Wildlife, Delta Stewardship Council, and State Water Resources Control Board), and all universities and nongovernmental organizations (San Francisco Estuary Institute) that manage and/or research fish or their habitat within the San Francisco Estuary and its watershed.

Respondent's Obligation: Voluntary.

Frequency of Collection: One time.

Estimated Number of Respondents: 100 (non-Federal respondents).

Estimated Completion Time per Response: 1 hour.

Estimated Total Annual Burden Hours: 100.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 3, 2014.
Tina A. Campbell,
Chief, Division of Policy and Directives Management, U.S. Fish and Wildlife Service.

[FR Doc. 2014-21353 Filed 9-8-14; 8:45 am]

BILLING CODE 4310-55-P